DEPARTMENT OF VETERANS AFFAIRS

Health Services Research and Development Service Scientific Merit Review Board, Notice of Meeting

The Department of Veterans Affairs (VA) gives notice under the Federal Advisory Committee Act, 5 U.S.C. App. 2, that a meeting of the Health Services Research and Development Service Scientific Merit Review Board will be held March 11, 2021, via WebEx. The meeting will be held between noon and 1:00 p.m. EST. The meeting will be partially closed to the public from 12:15-1:00 p.m. EST for the discussion, examination and reference to the research applications and scientific review. Discussions will involve reference to staff and consultant critiques of research proposals. Discussions will deal with scientific merit of each proposal and qualifications of personnel conducting the studies, the disclosure of which would constitute a clearly unwarranted invasion of personal privacy. Additionally, premature disclosure of research information could significantly obstruct implementation of proposed agency action regarding the research proposals. As provided by Public Law 92-463 subsection 10(d), as amended by Public Law 94-409, closing the committee meeting is in accordance with 5 U.S.C. 552b(c)(6) and (9)(B).

The objective of the Board is to provide for the fair and equitable selection of the most meritorious research projects for support by VA research funds and to offer advice for research program officials on program priorities and policies. The ultimate objective of the Board is to ensure the high quality and mission relevance of VA's legislatively mandated Health Services Research and Development program.

Board members advise the Director, Health Services Research and Development Service and the Chief Research and Development Officer on the scientific and technical merit, the mission relevance and the protection of human subjects of Health Services Research and Development proposals. The Board does not consider grants, contracts or other forms of extramural research.

Members of the public who wish to attend the open portion of the teleconference session from 12:00-12:15 p.m. EST may join via WebEx at: https://veteransaffairs.webex.com/veteransaffairs/j.php?MTID=mb034716dbeb422f458d27b50411aabe7, Meeting Number 199 716 2612; or by phone 1-404-397-1596 USA Toll Number, Access Code 199 716 2612.

Written comments from the public must be sent to Liza Catucci, Designated Federal Officer, Health Services Research and Development Service, Department of Veterans Affairs (14RDH), 810 Vermont Avenue NW, Washington, DC 20420, or to Liza.Catucci@va.gov prior to the meeting. Those who plan to attend the open portion of the meeting must contact Ms. Catucci at least five days before the meeting. For further information, please call Ms. Catucci at 202-443-5797.

Dated: January 22, 2021.
LaTonya L. Small,
Federal Advisory Committee Management Officer.

[FR Doc. 2021-01817 Filed 1-27-21; 8:45 am]

BILLING CODE P